DEPARTMENT OF THE TREASURY

Submission for OMB Review; Comment Request

August 31, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 9, 2001 to be assured of consideration.

Internal Revenue Service (IRS)

OMB Number: 1545-0971.

Form Number: IRS Form 1041-ES.

Type of Review: Extension.

Title: Estimated Income Tax for Estates and Trusts.

Description: Form 1040-ES is used by fiduciaries of estates and trusts to make estimated tax payments if their estimated tax is $1,000 or more. IRS uses the data to credit taxpayers' accounts and to determine if the estimated tax has been properly computed and timely paid.

Respondents: Business or other for-profit.

Estimated Number of Respondents/Recordkeepers: 1,200,000.

Estimated Burden Hours Per Respondent/Recordkeeper:

Recordkeeping—19 min.

Learning about the law or the form—15 min.

Preparing the form—1 hr., 33 min.

Copying, assembling, and sending the form to the IRS—1 hr.

Frequency of Response: Annually.

Estimated Total Reporting/Recordkeeping Burden: 3,281,200 hours.

OMB Number: 1545-1292.

Regulation Project Number: PS-97-91 and PS-101-90 Final.

Type of Review: Extension.

Title: Enhanced Oil Recovery Credit.

Description: This regulation provides guidance concerning the costs subject to the enhanced oil recovery credit, the circumstances under which the credit is available, and procedures for certifying to the Internal Revenue Service that a project meets the requirements of section 43(c) of the Internal Revenue Code.

Respondents: Business or other for-profit, Individuals or households.

Estimated Number of Respondents: 20.

Estimated Burden Hours Per Respondent: 73 hours.

Frequency of Response: Annually.

Estimated Total Reporting Burden: 1,460 hours.

OMB Number: 1545-1617.

Regulation Project Number: REG-118966-97 Final.

Type of Review: Extension.

Title: Information Reporting With Respect to Certain Foreign Partnerships and Certain Foreign Corporations.

Description: Section 6038 requires certain U.S. persons who own interests in controlled foreign partnerships or certain foreign corporations to annually report information to the IRS. This regulation provides reporting rules to identify foreign partnerships and foreign corporations which are controlled by U.S. persons.

Respondents: Business or other for-profit, Individuals or households.

Estimated Number of Respondents: 500.

Estimated Burden Hours Per Respondent: 30 minutes.

Frequency of Response: Annually.

Estimated Total Reporting Burden: 250 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 01-22543 Filed 9-6-01; 8:45 am]

BILLING CODE 4830-01-P